Proclamation 9178 of September 30, 2014

National Breast Cancer Awareness Month, 2014

By the President of the United States of America

A Proclamation

This year, more than 230,000 women and 2,000 men will be diagnosed with breast cancer in America. The heartache and the pain of this disease will touch too many of our mothers, fathers, daughters, and sisters, and too many families will bear these burdens. During National Breast Cancer Awareness Month, we recognize all those who know the anguish of breast cancer, and we redouble our efforts to improve care and bring attention to this disease.

When breast cancer is caught early, treatments work best and survival rates increase. That is why all women and men should be familiar with the risk factors and symptoms of this disease. I encourage women to speak with their health care provider about the risk of breast cancer and the importance of recommended mammograms—breast cancer screenings that play an essential role in early detection. Whether you are looking for information about breast cancer prevention, treatment of metastatic breast cancer, or information on the latest research, all Americans can learn more by visiting www.Cancer.gov.

Today, more Americans are surviving breast cancer than ever before, but there is more work to do, and my Administration is fighting every day to improve the lives of breast cancer patients, survivors, and their families. We have invested billions of dollars in critical research to better understand the causes of breast cancer, develop new diagnostic tools, and pursue innovative treatments. The Affordable Care Act has expanded access to life-saving care for millions of Americans, including those affected by breast cancer, and requires most insurance plans to cover recommended preventive services, including mammograms, without copays. New protections under the law also eliminate annual and lifetime dollar limits on coverage and prohibit insurers from denying coverage because of pre-existing conditions, including cancer.

This month, as we honor those lost to breast cancer, let us join with the loved ones who celebrate their memory and the patients who battle this disease every day, as well as our Nation's advocates, medical researchers, and health care providers. Together, we renew our commitment to better prevent, detect, and treat breast cancer, and we continue our work toward a future free from cancer in all its forms.

NOW, THEREFORE, I, BARACK OBAMA, President of the United States of America, by virtue of the authority vested in me by the Constitution and the laws of the United States, do hereby proclaim October 2014 as National Breast Cancer Awareness Month. I encourage citizens, government agencies, private businesses, nonprofit organizations, and all other interested groups to join in activities that will increase awareness of what Americans can do to prevent breast cancer.

IN WITNESS WHEREOF, I have hereunto set my hand this thirtieth day of September, in the year of our Lord two thousand fourteen, and of the Independence of the United States of America the two hundred and thirty-ninth.

[FR Doc. 2014-23859

Filed 10-2-14; 11:15 am]

Billing code 3295-F4